DEPARTMENT OF COMMERCE

International Trade Administration

Environmental Technologies Trade Advisory Committee (ETTAC) Public Meeting

AGENCY: International Trade Administration, DOC.

ACTION: Notice of an Open Meeting of a Federal Advisory Committee.

SUMMARY: This notice sets forth the schedule and proposed agenda of a meeting of the Environmental Technologies Trade Advisory Committee (ETTAC).

DATES: The meeting is scheduled for Tuesday, May 15, 2018 from 8:30 a.m.—3:30 p.m. Eastern Daylight Time (EDT). The deadline for members of the public to register or to submit written comments for dissemination prior to the meeting is 5:00 p.m. EDT on Monday, May 7, 2018. The deadline for members of the public to request auxiliary aids is 5:00 p.m. EDT on Monday, May 7, 2018.

ADDRESSES: The meeting will take place at the U.S. Department of Commerce, 1401 Constitution Avenue, NW, Washington, DC 20230, Room 6057-59. The address to register and obtain call-in information; submit comments; or request auxiliary aids is: Ms. Tracy Gerstle, Office of Energy & Environmental Industries (OEEI), International Trade Administration, Room 28018, 1401 Constitution Avenue NW, Washington, DC 20230 or email: tracy.gerstle@trade.gov.

FOR FURTHER INFORMATION CONTACT: Ms. Tracy Gerstle, Office of Energy & Environmental Industries (OEEI), International Trade Administration, Room 28018, 1401 Constitution Avenue NW, Washington, DC 20230 (Phone: 202-482-0810; Fax: 202-482-5665; email: tracy.gerstle@trade.gov).

SUPPLEMENTARY INFORMATION: The meeting will take place on May 15 from 8:30 a.m. to 3:30 p.m. EDT. The general meeting is open to the public and time will be permitted for public comment from 3:00—3:30 p.m. EDT. Members of the public seeking to attend the meeting are required to register in advance. Those interested in attending must provide notification by Monday, May 7, 2018 at 5:00 p.m. EDT, via the contact information provided above. This meeting is physically accessible to people with disabilities. Requests for sign language interpretation or other auxiliary aids should be directed to OEEI at (202) 482-0810 no less than one week prior to the meeting. Requests received after this date will be accepted, but it may not be possible to accommodate them.

Written comments concerning ETTAC affairs are welcome any time before or after the meeting. To be considered during the meeting, written comments must be received by Monday, May 7, 2018 at 5:00 p.m. EDT to ensure transmission to the members before the meeting. Minutes will be available within 30 days of this meeting.

Topic to be considered: During the May 15, 2018 meeting, the ETTAC will present to the Secretary of Commerce its final recommendations for this charter period as deliberated and adopted at its April 30, 2018 teleconference meeting, Topics to be deliberated at the April 30, 2018 meeting include optimizing the U.S. Government's trade promotion programs, identifying market access barriers, pros and cons of existing trade agreements, and discussing foreign procurement policy, including issues with financing mechanisms, localization requirements and non-tariff barriers. The ETTAC's subcommittees will present the recommendations to the Secretary. The subcommittees are: Trade Promotion and Export Market Development, Professional Services and Infrastructure Advancement, and Trade Policy and American Competitiveness. The Office of Energy & Environmental Industries will post the final agenda on its Office website https://www.trade.gov/td/energy/ at least one week prior to the meeting.

Background: The ETTAC is mandated by Section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was originally chartered in May of 1994. It was most recently re-chartered until August 2018.

Dated: April 16, 2018.
Man Cho,
Deputy Director, Office of Energy and Environmental Industries.

[FR Doc. 2018-08560 Filed 4-24-18; 8:45 am]

BILLING CODE 3510-DR-P